DEPARTMENT OF LABOR

Occupational Safety and Health Administration

[Docket No. ICR-1218-0048(2004)]

Standard on Occupational Noise Exposure (Noise) (29 CFR 1910.95); Extension of the Office of Management and Budget's (OMB) Approval of Information Collection (Paperwork) Requirements

AGENCY: Occupational Safety and Health Administration (OSHA), Labor.

ACTION: Request for comment.

SUMMARY: OSHA solicits comments concerning its proposal to extend OMB approval of the Information collection requirements contained in the Occupational Noise Exposure standard. (29 CFR 1910.95).

DATES: Comments must be submitted by the following dates:

Hard Copy: Your comments must be submitted (postmarked or received) by March 8, 2004.

Facsimile and electronic transmission: Your comments must be received by March 8, 2004.

ADDRESSES:

I. Submission of Comments

Regular mail, express delivery, hand-delivery, and messenger service: Submit your comments and attachments to the OSHA Docket Office, Docket No. ICR-1218-0048 (2004), Room N-2625, U.S. Department of Labor, 200 Constitution Avenue, NW, Washington, DC 20210. OSHA Docket Office and Department of Labor hours of operation are 8:15 a.m. to 4:45 p.m., EST.

Facsimile: If your comments, including any attachments, are 10 pages or fewer, you may fax them to the OSHA Docket Office at (202) 693-1648. You must include the docket number, ICR-1218-0048 (2004), in your comments.

Electronic: You may submit comments, but not attachments, through the Internet at http://ecomments.osha.gov/.

II. Obtaining Copies of the Supporting Statement for the Information Collection Request

The Supporting Statement for the Information Collection Request (ICR) is available for downloading from OSHA's Web site at http://www.osha.gov. The complete ICR, containing the OMB 83-I Form, Supporting Statement, and attachments, is available for inspection and copying in the OSHA Docket Office, at the address listed above. A printed copy of the ICR can be obtained by contacting Todd Owen at (202) 693-2222.

FOR FURTHER INFORMATION CONTACT: Todd Owen, Directorate of Standards and Guidance, OSHA, U.S. Department of Labor, Room N-3609, 200 Constitution Avenue, NW, Washington, DC 20210; telephone (202) 693-2222.

SUPPLEMENTARY INFORMATION:

I. Submission of Comments on This Notice and Internet Access to Comments and Submissions

You may submit comments in response to this document by (1) hard copy, (2) FAX transmission (facsimile), or (3) electronically through the OSHA webpage. Please note you cannot attach materials such as studies or journal articles to electronic comments. If you have additional materials, you must submit three copies of them to the OSHA Docket Office at the address above. The additional materials must clearly identify your electronic comments by name, date, subject and docket number so we can attach them to your comments. Because of security related problems there may be a significant delay in the receipt of comments by regular mail. Please contact the OSHA Docket Office at (202) 693-2350 for information about security procedures concerning the delivery of materials by express delivery, had delivery and messenger service.

II. Background

The Department of Labor, as part of its continuing effort to reduce paperwork and respondent (i.e., employer) burden, conducts a preclearance consultation program to provide the public with an opportunity to comment on proposed and continuing information collection requirements in accordance with the Paperwork Reduction Act of 1995 (PRA-95) (44 U.S.C. 3506(c)(2)(A).

This program ensures that information is in the desired format, reporting burden (time and costs) is minimal, collection instruments are clearly understood, and OSHA's estimate of the information collection burden is correct. The Occupational Safety and Health Act of 1970 (the Act) authorizes information collection by employers as necessary or appropriate for enforcement of the Act or for developing information regarding the causes and prevention of occupational injuries, illnesses, and accidents (29 U.S.C. 657).

The information collection requirements specified in the Noise Standard protect employees from suffering material hearing impairment.

III. Special Issues for Comment

OSHA has a particular interest in comments on the following issues:

• Whether the information collection requirements are necessary for the proper performance of the Agency's functions, including whether the information is useful;

• The accuracy of the Agency's estimate of the burden (time and costs) of the information collection requirements, including the validity of the methodology and assumptions used;

• The quality, utility, and clarity of the information collected; and

• Ways to minimize the burden on employers who must comply; for example, by using automated or other technological information collection and transmission techniques.

IV. Proposed Actions

OSHA is proposing to extend the information collection requirements in the Exposure to Noise Standard (29 CFR 1910.95).

The information collection requirements specified in the Noise Standard protect employees from suffering material hearing impairment. The information collection requirements of the Noise Standard include conducting noise monitoring; notifying employees when they are exposed at or above an 8-hour time-weighted average of 85 decibels; providing employees with initial and annual audiograms; notifying employees of a loss in hearing based on comparing audiograms; training employees on the effects of noise exposure and employee audiometric examinations, maintaining records of workplace noise exposure and employee audiograms; and allowing employees, OSHA and NIOSH access to materials and records required by the Standard.

Type of Review: Extension of currently approved information collection requirements.

Title: Noise Standard (29 CFR 1910.95).

OMB Number: 1218-0048.

Affected Public: Business or other for-profit; Federal government; State, Local or Tribal government.

Number of Respondents: 379,512.

Frequency: On occasion.

Total Responses: 26,240,305.

Average Time per Response: Varies from 2 minutes to notify employees when noise exposure exceeds the 8-hour time-weighted average of 85 decibels to 1 hour for employees in small establishments to take audiometric examinations.

Estimated Total Burden Hours: 5,175,645.

Estimated Cost (Operation and Maintenance): $98,814,861.

V. Authority and Signature

John L. Henshaw, Assistant Secretary of Labor for Occupational Safety and Health, directed the preparation of this notice. The authority for this notice is the Paperwork Reduction Act of 1995 (44 U.S.C. 3506), and Secretary of Labor's Order No. 5-2002 (67 FR 65008).

Signed at Washington, DC, on December 31, 2003.
John L. Henshaw,
Assistant Secretary of Labor.

[FR Doc. 04-360 Filed 1-7-04; 8:45 am]

BILLING CODE 4510-26-M